DEPARTMENT OF AGRICULTURE

Forest Service

Madera County Resource Advisory Committee

AGENCY: Forest Service, USDA.

ACTION: Notice of meeting cancellation.

SUMMARY: The Madera County Resource Advisory Committee was scheduled to meet November 15, 2011 in North Fork, California. The committee is authorized under the Secure Rural Schools and Community Self-Determination Act (Pub. L. 110-343) (the Act) and operates in compliance with the Federal Advisory Committee Act. The committee's charter expired in October 2011 and its renewal is under review by the Secretary of Agriculture. In compliance with the Federal Advisory Committee Act the committee will not be meeting until the charter is renewed.

DATES: The cancelled meeting was scheduled for Wednesday, November 15, 2011, 6:30 p.m.

ADDRESSES: The canceled meeting would have been held at the Bass Lake Ranger District Office, 57003 Road 225, North Fork, California 93643. Written comments concerning this cancellation may be submitted to the Designated Federal Officer.

All comments, including names and addresses when provided, are placed in the record and are available for public inspection and copying. The public may inspect comments received at 57003 Road 225, North Fork, California 93643. Please call ahead to (559) 877-2218 x3159 to facilitate entry into the building to view comments.

FOR FURTHER INFORMATION CONTACT: David Martin, Designated Federal Officer, Sierra National Forest, 57003 Road 225, North Fork, California 93643: Telephone: (559) 877-2218 or email at: dmartin05@fs.fed.us.

Individuals who use telecommunication devices for the deaf (TDD) may call the Federal Information Relay Service (FIRS) at 1-800) 877-8339 between 8 a.m. and 8 p.m., Eastern Standard Time, Monday through Friday.

Dated: October 26, 2011.
David W. Martin,
Designated Federal Officer, Sierra National Forest RAC.

[FR Doc. 2011-28220 Filed 10-31-11; 8:45 am]

BILLING CODE P